DEPARTMENT OF TRANSPORTATION

Federal Aviation Administration

14 CFR Part 39

[Docket No. FAA-2010-1156; Directorate Identifier 2010-NM-128-AD; Amendment 39-16622; AD 2011-05-12]

RIN 2120-AA64

Airworthiness Directives; The Boeing Company Model 777-200, -200LR, -300, and -300ER Series Airplanes

AGENCY: Federal Aviation Administration (FAA), DOT.

ACTION: Final rule.

SUMMARY: We are adopting a new airworthiness directive (AD) for the products listed above. This AD requires repetitive detailed inspections for disbonding and tearing and measurements for wear of the internal diameter (ID) of the Karon-lined bushings of the bulkhead support jackscrew fitting and of the jackscrew fitting of the horizontal stabilizer; and reinstallation of the horizontal stabilizer trim actuator (HSTA) after inspection and measurement; and if necessary, replacement of the bushings with new bushings and all applicable related investigative and corrective actions. This AD was prompted by a report indicating that a Karon-lined bushing with the liner broken into five pieces was found during a scheduled inspection of the HSTA components; the broken liner had worn and disbonded from the bushing. We are issuing this AD to detect and correct discrepancies of the HSTA attachment locations, which could result in reduced structural integrity of the horizontal stabilizer and consequent loss of controllability of the airplane.

DATES: This AD is effective April 14, 2011.

The Director of the Federal Register approved the incorporation by reference of a certain publication listed in the AD as of April 14, 2011.

ADDRESSES: For service information identified in this AD, contact Boeing Commercial Airplanes, Attention: Data & Services Management, P. O. Box 3707, MC 2H-65, Seattle, Washington 98124-2207; telephone 206-544-5000, extension 1, fax 206-766-5680; e-mail me.boecom@boeing.com; Internet https://www.myboeingfleet.com. You may review copies of the referenced service information at the FAA, Transport Airplane Directorate, 1601 Lind Avenue, SW., Renton, Washington 98057-3356. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Duong Tran, Aerospace Engineer, Airframe Branch, ANM-120S, FAA, Seattle Aircraft Certification Office, 1601 Lind Avenue, SW., Renton, Washington 98057-3356; telephone (425) 917-6452; fax (425) 917-6590; e-mail duong.tran@faa.gov.

SUPPLEMENTARY INFORMATION:

Discussion

We issued a notice of proposed rulemaking (NPRM) to amend 14 CFR part 39 to include an airworthiness directive (AD) that would apply to the specified products. That NPRM published in the Federal Register on December 1, 2010 (75 FR 74668, January 18, 2011). That NPRM proposed to require repetitive detailed inspections for disbonding and tearing and measurements for wear of the internal diameter (ID) of the Karon-lined bushings of the bulkhead support jackscrew fitting and of the jackscrew fitting of the horizontal stabilizer; repetitive installations of the horizontal stabilizer trim actuator (HSTA); and if necessary, replacement of the bushings with new bushings and all applicable related investigative and corrective actions.

Comments

We gave the public the opportunity to participate in developing this AD. We have considered the comments received. Boeing and American Airlines support the NPRM.

Clarification of AD Summary

We determined that the requirement specified in the Summary section of the NPRM for “repetitive installations of the HSTA” should be more clearly described as “reinstallation of the HSTA after inspection and measurement.” The Summary section of this AD has been revised accordingly. No change has been made to other sections of this AD in this regard.

Conclusion

We reviewed the relevant data, considered the comments received, and determined that air safety and the public interest require adopting the AD as proposed.

Costs of Compliance

We estimate that this AD affects 145 airplanes of U.S. registry. We also estimate that it will take about 7 work-hours per product to comply with the detailed inspection, measurement, and installation in this AD. The average labor rate is $85 per work-hour. Based on these figures, we estimate the cost of this AD to the U.S. operators to be $86,275, or $595 per product.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-05-12 The Boeing Company: Amendment 39-16622; Docket No. FAA-2010-1156; Directorate Identifier 2010-NM-128-AD.

Effective Date

(a) This AD is effective April 14, 2011.

Affected ADs

(b) None.

Applicability

(c) This AD applies to The Boeing Company Model 777-200, -200LR, -300, and -300ER series airplanes, certificated in any category, as identified in Boeing Alert Service Bulletin 777-55A0017, dated May 20, 2010.

Subject

(d) Air Transport Association (ATA) of America Code 55: Stabilizers.

Unsafe Condition

(e) This AD results from a report indicating that a Karon-lined bushing with the liner broken into five pieces was found during a scheduled inspection of the horizontal stabilizer trim actuator (HSTA) components; the broken liner had worn and disbonded from the bushing. The Federal Aviation Administration is issuing this AD to detect and correct discrepancies of the HSTA attachment locations, which could result in reduced structural integrity of the horizontal stabilizer and consequent loss of controllability of the airplane.

Compliance

(f) You are responsible for having the actions required by this AD performed within the compliance times specified, unless the actions have already been done.

Inspection/Related Investigative and Corrective Actions

(g) Before the accumulation of 32,000 total flight cycles, or within 24 months after the effective date of this AD, whichever occurs later: Do a detailed inspection for disbonding and tearing, and a measurement for wear of the internal diameter (ID) of the Karon-lined bushings of the bulkhead support jackscrew fitting and of the jackscrew fitting of the horizontal stabilizer; replace bushings with new bushings, as applicable; do all applicable related investigative and corrective actions; and install either a known serviceable or overhauled HSTA. Do the actions in accordance with the Accomplishment Instructions of Boeing Alert Service Bulletin 777-55A0017, dated May 20, 2010, except as provided by paragraph (h) of this AD. Do all applicable related investigative and corrective actions before further flight. Repeat the actions required by this paragraph thereafter at intervals not to exceed 16,000 flight cycles.

Exceptions to Corrective Actions

(h) If, during any inspection or measurement required by this AD, any damage is found, or the inner diameter is greater than the allowable hole diameter, and Part 1, Step 3.B.2.a.(1)(a)1)a) of the Accomplishment Instructions of Boeing Alert Service Bulletin 777-55A0017, dated May 20, 2010, specifies to contact Boeing for appropriate action: Before further flight, do the repair using a method approved in accordance with the procedures specified in paragraph (i) of this AD.

Alternative Methods of Compliance (AMOCs)

(i)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane.

Related Information

(j) For more information about this AD, contact Duong Tran, Aerospace Engineer, Airframe Branch, ANM-120S, FAA, Seattle ACO, 1601 Lind Avenue, SW., Renton, Washington 98057-3356; telephone (425) 917-6452; fax (425) 917-6590; email duong.tran@faa.gov.

Material Incorporated by Reference

(k) You must use Boeing Alert Service Bulletin 777-55A0017, dated May 20, 2010, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information incorporated by reference at the FAA, Transport Airplane Directorate, 1601 Lind Avenue, SW., Renton, Washington; or at the National Archives and Records Administration (NARA). For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, February 22, 2011.
Kalene C. Yanamura,
Acting Manager, Transport Airplane Directorate, Aircraft Certification Service.

[FR Doc. 2011-5086 Filed 3-9-11; 8:45 am]

BILLING CODE 4910-13-P